DEPARTMENT OF HOMELAND SECURITY

Federal Emergency Management Agency

[Docket ID FEMA-2013-0040]

Guide for the Evaluation of Alert and Notification Systems for Nuclear Power Plants, FEMA-REP-10, Rev. 1

AGENCY: Federal Emergency Management Agency; DHS.

ACTION: Notice of availability of proposed policy; request for comments.

SUMMARY: The Federal Emergency Management Agency (FEMA) requests public comments on the Guide for the Evaluation of Alert and Notification Systems for Nuclear Power Plants, FEMA-REP-10, Rev. 1.

DATES: Comments must be received by October 29, 2013.

ADDRESSES: You may submit comments, identified by Docket ID FEMA-2013-0040, by one of the following methods:

Federal eRulemaking Portal: http://www.regulations.gov Follow the instructions for submitting comments. Please note that this proposed policy is not a rulemaking and the Federal Rulemaking Portal is being utilized only as a mechanism for receiving comments.

Mail/Hand Delivery/Courier: Regulatory Affairs Division, Office of Chief Counsel, Federal Emergency Management Agency, 500 C Street SW., Washington, DC 20472.

FOR FURTHER INFORMATION CONTACT: John Schafer, Engineer, Professional Services Branch, Technological Hazards Division, Protection and National Preparedness Directorate, John.Schafer@fema.dhs.gov. (202) 341-4896.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link on the homepage of www.regulations.gov.

You may submit your comments and material by methods specified in the ADDRESSES section. Please submit your comments and any supporting material by only one means to avoid the receipt and review of duplicate submissions.

Docket: The proposed policy is available in docket ID FEMA-2013-0040. For access to the docket to read background documents or comments received, go to the Federal eRulemaking Portal at http://www.regulations.gov and search for the docket ID. Submitted comments may also be inspected at FEMA, Office of Chief Counsel, 500 C Street SW., Washington, DC 20472.

II. Background

In November 1980, the Federal Emergency Management Agency (FEMA) issued FEMA-REP-10, Guide for the Evaluation of Alert and Notification Systems for Nuclear Power Plants (NPPs). Since that time, there have been changes to FEMA and Nuclear Regulatory Commission (NRC) regulations, guidance, policies and advances in technology. Many of the Alert and Notification Systems (ANS) from the 1980s are undergoing replacement and upgrade cycles.

The new guidance:

• Allows FEMA in its evaluations of alert and notification systems to take into account technology that was not available when FEMA REP-10 was first developed, such as smartphones and social media.

• Removes technical information from FEMA-REP-10.

• Introduces the Evaluation Report which replaces the previously used Design Report.

• Presents a new evaluation tenet: FEMA, the State, local entities and Tribes will work collaboratively to develop the Evaluation Report that addresses both technical aspects (previously covered in the Design Report) and planning aspects (ANS/Communication Plans) demonstrating the achievement of minimally acceptable design objectives.

• Refocuses REP-10 into an internal review guide for FEMA Evaluators aligning with other REP evaluation guides.

This proposed policy is to be a companion document to NUREG-0654/FEMA-REP-1, Rev. 1 “Criteria for Preparation and Evaluation of Emergency Response Plans and Preparedness in Support of Nuclear Power Plants” and the FEMA Radiological Emergency Preparedness Program Manual. Both documents contribute to the achievement of reasonable assurance, which is a determination that State, local, Tribal, and utility offsite plans and preparedness are adequate to protect public health and safety in the emergency planning areas surrounding commercial nuclear power plants.

The proposed policy does not have the force or effect of law.

FEMA seeks comment on the proposed policy, which is available online at http://www.regulations.gov in docket ID FEMA-2013-0040. Based on the comments received, FEMA may make appropriate revisions to the proposed policy. Although FEMA will consider any comments received in the drafting of the final policy, FEMA will not provide a response to comments document. When FEMA issues a final policy, FEMA will publish a notice of availability in the Federal Register and make the final policy available at http://www.regulations.gov. The final policy will not have the force or effect of law.

Authority: 6 U.S.C. 313-314a; Sec. 109, Pub. L. 96-295; E.O. 12148; 44 CFR part 350.

W. Craig Fugate,
Administrator, Federal Emergency Management Agency.

[FR Doc. 2013-21265 Filed 8-29-13; 8:45 am]

BILLING CODE 9111-21-P